DEPARTMENT OF VETERANS AFFAIRS

Enhanced-Use Lease of VA Property for the Development and Operation of a Transitional Housing Facility for Eligible Homeless Veterans at the Department of Veterans Affairs Medical Center, Battle Creek, MI.

AGENCY: Department of Veterans Affairs (VA).

ACTION: Notice of Intent to Enter into an Enhanced-Use Lease.

SUMMARY: The Secretary of the Department of Veterans Affairs (VA) intends to enter into an enhanced-use lease of 6 acres of underutilized land at the VA Medical Center in Battle Creek, Michigan. The selected lessee will finance, design, develop, construct, operate, manage and maintain a transitional housing facility consisting of 75 units and a manager's unit. As consideration for the lease, the lessee will be required to provide VA with rent, and/or in-kind consideration, including furnishing homeless veterans with transitional housing units and related services on a priority basis.

FOR FURTHER INFORMATION CONTACT: Edward Bradley, Office of Asset Enterprise Management (044C), Department of Veterans Affairs, 810 Vermont Avenue, NW., Washington, DC 20420, (202) 461-7778 (this is not a toll-free number).

SUPPLEMENTARY INFORMATION: Title 38 U.S.C. 8161 et seq. states that the Secretary may enter into an enhanced-use lease if he determines that implementation of a business plan proposed by the Under Secretary for Health for applying the consideration under such a lease for the provision of medical care and services would result in a demonstrable improvement of services to eligible veterans in the geographic service-delivery area within which the property is located. This project meets this requirement.

Approved: August 29, 2008.
James B. Peake,
Secretary of Veterans Affairs.

[FR Doc. E8-20576 Filed 9-4-08; 8:45 am]

BILLING CODE 8320-01-P